DEFENSE NUCLEAR FACILITIES SAFETY BOARD

Senior Executive Service Performance Review Board

AGENCY: Defense Nuclear Facilities Safety Board.

ACTION: Notice of members of Senior Executive Service Performance Review Board.

SUMMARY: This notice announces the membership of the Defense Nuclear Facilities Safety Board (DNFSB) Senior Executive Service (SES) Performance Review Board (PRB).

DATES: These appointments are applicable on November 27, 2018.

ADDRESSES: Send comments concerning this notice to: Defense Nuclear Facilities Safety Board, 625 Indiana Avenue NW, Suite 700, Washington, DC 20004-2001.

FOR FURTHER INFORMATION CONTACT: Deborah Biscieglia by telephone at (202) 694-7041 or by email at debbieb@dnfsb.gov.

SUPPLEMENTARY INFORMATION: 5 U.S.C. 4314 (c)(1) through (5) requires each agency to establish, in accordance with regulations prescribed by the Office of Personnel Management, one or more performance review boards. Sec. 4314(c)(4) requires that the appointment of PRB members be published in the Federal Register. The PRB shall review and evaluate the initial summary rating of a senior executive's performance, the executive's response, and the higher level official's comments on the initial summary rating. In addition, the PRB will review and recommend executive performance bonuses and pay increases.

The DNFSB is a small, independent Federal agency; therefore, the members of the DNFSB SES Performance Review Board listed in this notice are drawn from the SES ranks of other agencies. The following persons comprise a standing roster to serve as members of the Defense Nuclear Facilities Safety Board SES Performance Review Board:

Christopher E. Aiello, Special Advisor to the Deputy to the Chairman and CFO, Federal Deposit Insurance Corporation

David M. Capozzi, Executive Director, United States Access Board

Cedric R. Hendricks, Associate Director for the Office of Legislative, Intergovernmental and Public Affairs, Court Services and Offender Supervision Agency

Nigel Q. Mote, Executive Director, U.S. Nuclear Waste Technical Review Board

Dated: November 20, 2018.
Joyce L. Connery,
Acting Chairman.

[FR Doc. 2018-25817 Filed 11-26-18; 8:45 am]

BILLING CODE 3670-01-P